DEPARTMENT OF HEALTH AND HUMAN SERVICES

Health Care Financing Administration

42 CFR Parts 416, 482, and 485

[HCFA-3049-F2]

RIN 0938-AK08

Medicare and Medicaid Programs; Hospital Conditions of Participation: Anesthesia Services: Delay of Effective Date

AGENCY: Health Care Financing Administration (HCFA), HHS.

ACTION: Final rule; delay of effective date.

SUMMARY: In accordance with the memorandum of January 20, 2001, from the Assistant to the President and Chief of Staff, entitled “Regulatory Review Plan,” published in the Federal Register on January 24, 2001, this action temporarily delays for 60 days the effective date of the rule entitled “Hospital Conditions of Participation: Anesthesia Services,” published in the Federal Register on January 18, 2001 (66 FR 4674). That rule concerns the Anesthesia Services Condition of Participation (CoP) for hospitals, the Surgical Services Condition of Participation for Critical Access Hospitals (CAHs), and the Ambulatory Surgical Center (ASC) Conditions of Coverage—Surgical Services. That final rule changes the physician supervision requirement for certified registered nurse anesthetists furnishing anesthesia services in hospitals, CAHs, and ASCs. Under that final rule, State laws will determine which professionals are permitted to administer anesthesia and the level of supervision required, recognizing a State's traditional domain in establishing professional licensure and scope-of-practice laws. To the extent that 5 U.S.C. section 553 applies to this action, it is exempt from notice and comment because it constitutes a rule of procedure under 5 U.S.C. section 553(b)(3)(A). Alternatively, HCFA's implementation of this rule without opportunity for public comment, effective immediately upon publication today in the Federal Register, is based on the good cause exceptions in 5 U.S.C. section 553(b)(3)(B) and 553(d)(3), in that seeking public comment is impracticable, unnecessary and contrary to the public interest. The temporary 60-day delay in effective date is necessary to give Department officials the opportunity for further review and consideration of new regulations, consistent with the Assistant to the President's memorandum of January 20, 2001. Given the imminence of the effective date, seeking prior public comment on this temporary delay would have been impractical, as well as contrary to the public interest, in the orderly promulgation and implementation of regulations.

DATES: The effective date of the final rule, Hospital Conditions of Participation: Anesthesia Services, published in the Federal Register on January 18, 2001 (66 FR 4674), is delayed for 60 days, from March 19, 2001 to a new effective date of May 18, 2001.

FOR FURTHER INFORMATION CONTACT: Stephanie Dyson, Health Care Financing Administration, (410) 786-9226.

(Catalog of Federal Domestic Assistance Program No. 93.773, Medicare—Hospital Insurance; and Program No. 93.774 Medicare—Supplementary Medical Insurance Program)

Dated: February 27, 2001.
Michael McMullan,
Acting Deputy Administrator, Health Care Financing Administration.
Approved: March 12, 2001.
Tommy G. Thompson,
Secretary.

[FR Doc. 01-6773 Filed 3-16-01; 8:45 am]

BILLING CODE 4120-01-M